DEPARTMENT OF LABOR

Employment and Training Administration

[TA-W-91,027]

Indiana Marujun, LLC, Including On-Site Leased Workers From Adecco, First Call And MS Companies Winchester, Indiana; Amended Certification Regarding Eligibility To Apply for Worker Adjustment Assistance

In accordance with Section 223 of the Trade Act of 1974, as amended (“Act”), 19 U.S.C. 2273, the Department of Labor issued a Certification of Eligibility to Apply for Worker Adjustment Assistance on November 12, 2015, applicable to workers of Indiana Marujun, LLC, including on-site leased workers from Adecco and First Call, Winchester, Indiana (TA-W-91,027). The Department's notice of determination was published in the Federal Register on January 11, 2016 (81 FR 1228).

At the request of the Indiana Department of Workforce Development, the Department reviewed the certification for workers of the subject firm. The workers firm is engaged in activities related to the production of automotive part components.

The Department has determined that MS Companies was sufficiently under the operational control of Indiana Marujun, LLC, Winchester, Indiana to be considered leased workers.

The intent of the Department's certification is to include all workers of the subject firm who were adversely affected by a shift in production of automotive part components or articles like or directly competitive to a foreign country.

Based on these findings, the Department is amending this certification to include workers leased from MS Companies working on-site at the Winchester, Indiana location of the subject firm.

The amended notice applicable to TA-W-91,027 is hereby issued as follows:

All workers from Indiana Marujun, LLC, including on-site leased workers from Adecco, First Call, and MS Companies, Winchester, Indiana who became totally or partially separated from employment on or after October 2, 2014 through November 12, 2017 and all workers in the group threatened with total or partial separation from employment on date of certification through two years from the date of certification, are eligible to apply for adjustment assistance under Chapter 2 of Title II of the Trade Act of 1974, as amended.

Signed in Washington, DC, this 7th day of September 2016.
Hope D. Kinglock,
Certifying Officer, Office of Trade Adjustment Assistance.

[FR Doc. 2016-26998 Filed 11-8-16; 8:45 am]

BILLING CODE P